DEPARTMENT OF TRANSPORTATION

Federal Aviation Administration

[Docket No. FAA-2018-0649]

Notice of Proposal To Discontinue Hazardous Inflight Weather Advisory Service (HIWAS)

AGENCY: Federal Aviation Administration (FAA), DOT.

ACTION: Request for public comment.

SUMMARY: The FAA is requesting public comment on the agency's proposal to discontinue the Hazardous Inflight Weather Advisory Service (HIWAS).

DATES: Submit comments on or before August 22, 2018.

ADDRESSES: You may send comments identified by Docket Number FAA-2018-0649 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-001.

• Hand Deliver or Courier: Take comments to Docket Operations in Room W12-140, West Building Ground Floor, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instruction for accessing the docket or Docket Operations in Room W12-140 of the West Building, Ground Floor at 1200 New Jersey Avenue SE, Washington, DC between 9 a.m. and 5 p.m., Monday through Friday, except Federal holidays.

FOR FURTHER INFORMATION CONTACT: Jeff Black, Flight Service, Federal Aviation Administration, 800 Independence Avenue SW, Washington, DC 20591, Telephone (202) 267-6500; email jeff.black@faa.gov.

Issued in Washington, DC, on July 16, 2018.

SUPPLEMENTARY INFORMATION:

Background: Hazardous Inflight Weather Advisory Service (HIWAS) is a continuous broadcast of weather advisories over a limited nationwide network of VORs that provide pilots with meteorological information relating to hazardous weather. Since the early 1980s, the broadcast, available in various locations of the contiguous United States (CONUS) allows pilots to access hazardous weather while inflight without going through a Flight Service specialist. HIWAS was conceived when there was a large demand for inflight briefings from specialists and wait times could be extremely long. HIWAS alleviated the workload of the specialists and helped to reduce wait times for pilots. At that time, pilots had no other choice but to contact Flight Service to obtain hazardous weather updates for the route of flight. Originally created by specialists using scripts, HIWAS is now produced using text to voice technology.

With the advent of the internet and other technology, the demand for inflight services from Flight Service specialists has declined. Staffing was 3,000+ specialists in more than 300 facilities during the early 1980s and now consists of three hub facilities. In 2018, radio contacts dropped to less than 900 per day from an average of 10,000 radio contacts per day.

Demand for inflight services has diminished since the inception of HIWAS while access has never been greater, which indicates that pilots are migrating to other means of obtaining inflight weather advisories. Currently, multiple sources are available that provide access to weather and aeronautical information to pilots in the cockpit, often presented in a graphical format, making it easier to visualize what is going on along the route of flight. Pilots no longer need to contact a Flight Service specialist to adhere to 14 CFR 91.103 and maintain awareness of hazardous weather advisories along their route of flight.

As part of FAA efforts to modernize and streamline service delivery, the agency is interested in receiving comments on elimination of the Hazardous Inflight Weather Advisory Service.

Dates: Comments must be received by August 22, 2018.

Steven Villanueva,
Director of Flight Service, Federal Aviation Administration.

[FR Doc. 2018-15632 Filed 7-20-18; 8:45 am]

BILLING CODE 4910-13-P